DEPARTMENT OF AGRICULTURE

Forest Service

Southern Montana Resource Advisory Committee

AGENCY: Forest Service, USDA.

ACTION: Notice; Solicitation of Nominees.

l

SUMMARY: In accordance with the Secure Rural Schools and Community Self-Determination Act (Pub. L. 110-343) (the Act), and the Federal Advisory Committee Act, (FACA) (5 U.S.C., App. 2), the Southern Montana Resource Advisory Committee (RAC) announces the solicitation of nominees to fill vacancies. The purpose of the RAC is to improve collaborative relationships, to advise, and provide recommendations to the Forest Service concerning projects and funding consistent with Title II of the Act.

DATES: Nominations must be received on or before August 16, 2013. Nominations must contained a completed application packet that includes following:

(1) Nominee's name,

(2) resume,

(3) completed Form AD-755, and

(4) Advisory Committee or Research and Promotion Background Information.

The package must be sent to the address listed below.

ADDRESSES: Mariah Leuschen, USDA Forest Service, Custer Supervisor's Office, 1310 Main Street, Billings, MT 59105. Telephone Number: (406) 255-1411.

FOR FURTHER INFORMATION CONTACT: Mariah Leuschen, Public Affairs Specialist/Gallatin and Southern Montana RAC Coordinator, USDA Forest Service, Custer and Gallatin National Forests, Telephone: (406) 255-1411, Email: mdleuschen@fs.fed.us.

SUPPLEMENTARY INFORMATION:

Background

The Act was reauthorized on July 6, 2012, to require each potentially eligible county to elect to receive a share of the State payment or a share of the State's 25-percent payment. Title II of the Act calls for local RACs to review, recommend, and monitor special projects on national forests. The purpose of each RAC is to improve collaborative relationships among the people that use and care for the national forests and to provide advice and recommendations to the Forest Service concerning projects and funding consistent with Title II of the Act. The duties of the committee include monitoring projects, advising the Secretary on the progress and results of the monitoring efforts, and making recommendations to the Forest Service for any appropriate changes or adjustments to the projects being monitored by the RAC.

Southern Montana RAC Membership

The RAC will be comprised of 15 members approved by the Secretary of Agriculture. RAC membership will be fairly balanced in terms of the points of view represented and functions to be performed. The RAC members will serve 4-year terms.

The RAC shall include representation in the following areas:

(1) Five persons who:

(a) represent organized labor or non-timber forest product harvester groups,

(b) represent developed outdoor recreation, off-highway vehicle users, or commercial recreation activities,

(c) represent energy and mineral development, or commercial or recreational fishing interests,

(d) represent commercial timber industry, or

(e) hold Federal grazing permits or other land use permits or represent non-industrial private forest land owners within the area for which the committee is organized.

(2) Five persons who represent:

i. nationally recognized environmental organizations,

ii. regionally or locally recognized environmental organizations,

iii. dispersed recreational activities,

iv. archaeological and historical interests, or

v. nationally or regionally recognized wild horse and burro interest groups, wildlife or hunting organizations, or watershed associations.

(3) Five persons who:

i. hold State elected office (or a designee),

ii. hold county or local elected office,

iii. represent American Indian tribes within or adjacent to the area for which the committee is organized,

iv. represent school officials or teachers, or

v. represent the affected public-at-large.

In the event that a vacancy arises, the Designated Federal Officer (DFO) may fill the vacancy with a replacement member appointed by the Secretary, if an appropriate replacement member is available.

Nominations and Applications Information

The appointment of members to the RAC will be made by the Secretary of Agriculture. Any individual or organization may nominate one or more qualified persons to represent the vacancies listed above. To be considered for membership, nominees must:

1. Identify what vacancy they would represent and how they are qualified to represent that vacancy,

2. state why they want to serve on the RAC and what they can contribute,

3. show their past experience in working successfully as part of a working group on forest management activities,

4. complete Form AD-755, Advisory Committee or Research and Promotion Background Information.

You may contact the person listed above or retrieve Form AD-755 from the following Web site: http://www.usda.gov/documents/OCIO_AD_755_Master_2012.pdf. All nominations will be vetted by the Agency.

Equal opportunity practices, in line with the USDA policies, will be followed in all appointments to the RACs. To ensure that the recommendations of the RACs have been taken into account the needs of the diverse groups served by the Departments, membership should include, to the exten practicable, individuals with demonstrated ability to represent minorities, women, and persons with disabilities.

Dated: July 9, 2013.
Gregory Parham,
Assistant Secretary of Administration.

[FR Doc. 2013-17040 Filed 7-16-13; 8:45 am]

BILLING CODE 3410-11-P